NATIONAL SCIENCE FOUNDATION

Advisory Committee for Environmental Research and Education; Notice of Meeting

In accordance with the Federal Advisory Committee Act (Pub. Law 92-463, as amended), the National Science Foundation announces the following meeting:

Name: Advisory Committee for Environmental Research and Education (9487).

Dates: February 28, 2001; 8:30 a.m.-5:30 p.m. March 1, 2001; 8:30 a.m.-3:30 p.m.

Place: Room 1235, National Science Foundation, 4201 Wilson Blvd, Arlington, VA.

Type of Meeting: Open.

Contact Person: Dr. Margaret Cavanaugh, Office of the Director, National Science Foundation, Suite 1205, 4201 Wilson Blvd, Arlington, Virginia 22230. Phone 703-292-8002.

Minutes: May be obtained from the contact person listed above.

Purpose of Meeting: To provide advice, recommendations, and oversight concerning support for environmental research and education.

Agenda:

February 28—Overview of present portfolio in environmental research and education. Discussion of reports by the National Science Board and the National Research Council on directions of environmental research. Advisory Committee responsibilities and organization.

March 1—Long-term planning for the environmental portfolio. Advisory Committee subcommittee meetings on education, infrastructure, communication, evaluation and other areas as related to environmental research and education.

Dated: February 2, 2001.
Karen J. York,
Committee Management Officer.

[FR Doc. 01-3335 Filed 2-8-01; 8:45 am]

BILLING CODE 7555-01-M